DEPARTMENT OF AGRICULTURE

Forest Service

Pacific Northwest National Scenic Trail Advisory Council; Withdrawal

AGENCY: Forest Service, Agriculture (USDA).

ACTION: Notice of meeting; withdrawal.

SUMMARY: The Forest Service is withdrawing the notice, “Pacific Northwest National Scenic Trail Advisory Council, Notice of Meeting,” published in the Federal Register on January 17, 2024.

FOR FURTHER INFORMATION CONTACT: Jeff Kitchens, Designated Federal Officer (DFO), by email at jeffrey.kitchens@usda.gov, via mail (i.e., postmarked) to Jeff Kitchens, 63095 Deschutes Market Road, Bend, OR 97701 or by phone at (458) 899-6185.

SUPPLEMENTARY INFORMATION: The Forest Service is withdrawing the notice published in the Federal Register on January 17, 2024, at 89 FR 2918 (FR Doc. 2024-00785).

Dated: January 31, 2024.
Cikena Reid,
USDA Committee Management Officer.

[FR Doc. 2024-02333 Filed 2-5-24; 8:45 am]

BILLING CODE 3411-15-P